DEPARTMENT OF COMMERCE

International Trade Administration

[A-570-954]

Certain Magnesia Carbon Bricks From the People's Republic of China: Preliminary Results of the Antidumping Duty Administrative Review; 2017-2018

AGENCY: Enforcement and Compliance, International Trade Administration, Department of Commerce.

SUMMARY: The Department of Commerce (Commerce) preliminarily determines to rescind this administrative review, as there is no evidence of any reviewable entries, shipments, or sales of certain magnesia carbon bricks (magnesia carbon bricks) from the People's Republic of China (China) to the United States during the September 1, 2017 through August 31, 2018 period of review (POR) by the companies subject to this review. Interested parties are invited to comment on these preliminary results.

DATES: Applicable October 16, 2019.

FOR FURTHER INFORMATION CONTACT: Nathan James, AD/CVD Operations, Office V, Enforcement and Compliance, International Trade Administration, U.S. Department of Commerce, 1401 Constitution Avenue NW, Washington DC 20230; telephone: 202-482-5305.

SUPPLEMENTARY INFORMATION:

Background

On November 15, 2018, Commerce published in the Federal Register a notice of initiation of an administrative review of the antidumping duty order on magnesia carbon bricks for five producers/exporters for the POR. ¹ Commerce exercised its discretion to toll all deadlines affected by the partial federal government closure from December 22, 2018 through the resumption of operations on January 28, 2019.² Commerce extended the deadline for these preliminary results from July 12, 2019, to no later than October 10, 2019. For a more detailed description of the events that followed the initiation of this review, see the Preliminary Decision Memorandum, dated concurrently with these results and hereby adopted by this notice.³

¹ See Initiation of Antidumping and Countervailing Duty Administrative Reviews, 83 FR 57414 (November 15, 2018) (Initiation Notice). The companies subject to this review are Fedmet Resources Corporation (Fedmet); Fengchi Imp. and Exp. Co., Ltd. of Haicheng City, Fengchi Mining Co., Ltd. of Haicheng City, and Fengchi Refractories Co., of Haicheng City (collectively, Fengchi); and RHI Liaoning Zhongmei High Temperature Material Co., Ltd., Liaoning Zhongmei Holding Co., Ltd., RHI Refractories Liaoning Co., Ltd., Shenglong Refractories Co., Ltd., Yingkou Heping Sanhua Materials Co., Ltd., and Yingkou Heping Samwha Minerals, Co., Ltd.

² See Memorandum, “Deadlines Affected by the Partial Shutdown of the Federal Government,” dated January 28, 2019. All deadlines in this proceeding have been extended by 40 days.

³ See Memorandum, “Decision Memorandum for the Preliminary Results of the Administrative Review of the Antidumping Duty Order on Certain Magnesia Carbon Bricks from the People's Republic of China; 2017-2018,” dated concurrently with this notice (Preliminary Determination Memorandum).

The Preliminary Decision Memorandum is a public document and is on file electronically via Enforcement and Compliance's Antidumping and Countervailing Duty Centralized Electronic Service System (ACCESS). Access to ACCESS is available to registered users at http://access.trade.gov and is available to all parties in the Central Records Unit, Room B8024 of the main Commerce building. In addition, a complete version of the Preliminary Decision Memorandum can be accessed directly at http://enforcement.trade.gov/frn/index.html. A list of topics discussed in the Preliminary Decision Memorandum is attached as an Appendix to this notice. The signed Preliminary Decision Memorandum and the electronic versions of the Preliminary Decision Memorandum are identical in content.

Scope of the Order

The scope of the order includes certain chemically-bonded magnesia carbon bricks from China. A full description of the scope of the order is contained in the Preliminary Decision Memorandum, which is hereby adopted by this notice.

Methodology

Commerce is conducting this administrative review in accordance with section 751(a)(1)(B) of the Tariff Act of 1930, as amended (the Act). For a full description of the methodology underlying our conclusions, see the Preliminary Decision Memorandum.

Preliminary Intent To Rescind the Administrative Review, in Part, and Status of the China-Wide Entity

Based on information submitted after the initiation of this administrative review, and due to the fact that we have not received any information from U.S. Customs and Border Protection (CBP) indicating that the companies that submitted no shipment certifications had reviewable entries of subject merchandise to the United States during the POR, Commerce preliminarily determines certain companies subject to this review had no reviewable entries of subject merchandise during the POR.⁴ Should evidence arise that leads us to conclude that the companies subject to review had reviewable entries of subject merchandise during the POR, we will revisit this issue in the final results. Otherwise, pursuant to 19 CFR 351.213(d)(3), we intend to rescind the administrative review of these companies in the final results.

⁴ See Memorandum, “Certain magnesia carbon bricks from China (A-570-954)” dated July 31, 2019 (detailing CBP's response to Commerce's no-shipment inquiry).

Additionally, none of the following companies subject to this review filed a separate rate application or certification: Liaoning Zhongmei High Temperature Material Co., Ltd., Liaoning Zhongmei Holding Co., Ltd., RHI Refractories Liaoning Co., Ltd., Shenglong Refractories Co., Ltd., Yingkou Heping Sanhua Materials Co., Ltd., and Yingkou Heping Samwha Minerals, Co., Ltd. Thus, Commerce preliminarily determines that these companies have not demonstrated their eligibility for separate rate status. As such, Commerce preliminarily determines that these companies are part of the China-wide entity. In addition, Commerce no longer considers the non-market economy (NME) entity as an exporter conditionally subject to an antidumping duty administrative review. Accordingly, the NME entity will not be under review unless Commerce specifically receives a request for, or self-initiates, a review of the NME entity. In this administrative review, no party requested a review of the China-wide entity. Moreover, we have not self-initiated a review of the China-wide entity. Because no review of the China-wide entity is being conducted, the China-wide entity's entries are not subject to the review and the rate applicable to the NME entity is not subject to change as a result of this review. The China-wide entity rate is 236.00 percent.

Public Comment

Case briefs must be submitted to Enforcement and Compliance's Antidumping and Countervailing Duty Centralized Electronic Service System (ACCESS) no later than 30 days after the date of publication of these preliminary results, unless the Secretary alters the time limit. Rebuttal briefs, limited to issues raised in case briefs, may be submitted no later than five days after the deadline date for case briefs.⁵ Commerce will notify interested parties when it has determined a deadline for case briefs via ACCESS. Parties who submit case or rebuttal briefs in this proceeding are encouraged to submit with each argument: (1) A statement of the issue; (2) a brief summary of the argument; and (3) a table of authorities.⁶

⁵ See 19 CFR 351.309(c)(1)(ii) and 351.309(d)(1).

⁶ See 19 CFR 351.309(c)(2) and 351.309(d)(2).

Pursuant to 19 CFR 351.310(c), interested parties who wish to request a hearing must submit a written request to the Assistant Secretary for Enforcement and Compliance, U.S. Department of Commerce, filed electronically through ACCESS, within 30 days after the publication of this notice. Hearing requests should contain the party's name, address, telephone number, the number of participants, and a list of the issues parties intend to present at the hearing. If a request for a hearing is made, Commerce intends to hold the hearing at the U.S. Department of Commerce, 1401 Constitution Avenue NW, Washington, DC 20230, at a time to be determined. Prior to the hearing, Commerce will contact all parties who submitted case or rebuttal briefs to determine if they wish to participate in the hearing. Commerce will then distribute a hearing schedule to these parties prior to the hearing, and only those parties listed on the hearing schedule may present issues raised in their briefs.

All submissions, with limited exceptions, must be filed electronically using ACCESS.⁷ An electronically filed document must be received successfully in its entirety by ACCESS by 5:00 p.m. Eastern Time, on the due dates established above (or, where applicable, to be established by Commerce at a later date). Documents excepted from the electronic submission requirements must be filed manually (i.e., in paper form) with the APO/Dockets Unit in Room 18022 and stamped with the date and time of receipt by on the due date.⁸

⁷ See 19 CFR 351.303.

⁸ Id.

Unless otherwise extended, Commerce intends to issue the final results of this administrative review within 120 days of the publication of these preliminary results, pursuant to section 751(a)(3)(A) of the Act.

Assessment Rates

We intend to issue appropriate assessment instructions to CBP 15 days after the publication of the final rescission (or, should we find that the companies subject to this review had reviewable entries of subject merchandise to the United States during the POR, the final results) of this administrative review.

These preliminary results are issued and published in accordance with sections 751(a)(1) and 777(i)(1) of the Act, and 19 CFR 351.221(b)(4).

Dated: October 9, 2019.
Jeffrey I. Kessler,
Assistant Secretary for Enforcement and Compliance.

Appendix

List of Topics Discussed in the Preliminary Decision Memorandum

I. Summary

II. Background

III. Scope of the Order

IV. Preliminary Intent To Rescind the Administrative Review, in Part, and Status of the China-wide Entity

V. Public Comment

VI. Recommendation

[FR Doc. 2019-22515 Filed 10-15-19; 8:45 am]

BILLING CODE 3510-DS-P